DEPARTMENT OF THE TREASURY

Internal Revenue Service

Electronic Tax Administration Advisory Committee; Meetings

AGENCY: Internal Revenue Service (IRS), Treasury.

ACTION: Notice of meeting.

SUMMARY: The Electronic Tax Administration Advisory Committee (ETAAC) will hold a public meeting on Wednesday, June 29, 2022.

FOR FURTHER INFORMATION CONTACT: Mr. Sean Parman, Office of National Public Liaison, at 202-317-6247 or send an email to PublicLiaison@irs.gov.

SUPPLEMENTARY INFORMATION: Notice is hereby given pursuant to section 10(a)(2) of the Federal Advisory Committee Act, 5 U.S.C. App. (1988), that a public meeting of the ETAAC will be held on Wednesday, June 29, 2022, from 9:00 a.m. to 11:00 a.m. EDT at 1111 Constitution Avenue NW, Washington, DC, 20224. The purpose of the ETAAC is to provide continuing advice regarding the development and implementation of the IRS organizational strategy for electronic tax administration. ETAAC is an organized public forum for discussion of electronic tax administration issues such as prevention of identity theft and refund fraud. It supports the overriding goal that paperless filing should be the preferred and most convenient method of filing tax and information returns. ETAAC members convey the public's perceptions of IRS electronic tax administration activities, offer constructive observations about current or proposed policies, programs and procedures, and suggest improvements. Due to limited seating and security requirements, call or email Sean Parman to confirm your attendance. Mr. Parman can be reached at 202-317-6247 or PublicLiaison@irs.gov. Should you wish the ETAAC to consider a written statement, please call 202-317-6247 or email: PublicLiaison@irs.gov.

Dated: June 8, 2022
Nina M. Lachin,
Acting Branch Chief, National Public Liaison.

[FR Doc. 2022-12705 Filed 6-10-22; 8:45 am]

BILLING CODE 4830-01-P